DEPARTMENT OF JUSTICE

Notice of Lodging of Consent Decree Under the Comprehensive Environmental Response, Compensation, and Liability Act (“CERCLA”)

In accordance with Departmental policy, 28 CFR 50.7, 38 FR 19029, and 42 U.S.C. 9622(d)(2), notice is hereby given that on September 28, 2000, a proposed Consent Decree in United States v. American Cyanamid Company, et al., Civil Action No. 00-Civ.-6015 (LMM), was lodged with the United States District Court for the Southern District of New York. The proposed consent decree resolves the United States' claims for past and future costs against John Giannattasio, the principal officer and shareholder of Haul-A-Way and J&G Refuse Company for the Sarney Farm Superfund Site under Section 107 of the Comprehensive Environmental Response, Compensation, and Liability Act (CERCLA), 42 U.S.C. 9607. Under the terms of the proposed consent decree, the settler will pay $482,000 to the United States as reimbursement for the costs the United States incurred or will incur at the Sarney Farm Superfund Site.

The Department of Justice will receive for a period of thirty (30) days from the date of this publication comments relating to the proposed consent decree. Comments should be addressed to the Assistant Attorney General for the Environment and Natural Resources Division, Department of Justice, P.O. Box 7611, Ben Franklin Station, Washington, DC 20044-7611, and should refer to United States v. American Cyanamid Company, et al., D.J. Ref. 90-11-3-854/1.

The proposed consent decree may be examined at EPA Region II, Office of the Environmental Protection Agency, 290 Broadway, New York, New York 10007-1866. A copy of the consent decree may also be obtained by mail from the Department of Justice Consent Decree Library, P.O. Box 7611, Washington, DC 20044. In requesting a copy, with the attachment, please enclose a check in the amount of $11.75 (25 cents per page reproduction cost) payable to the Consent Decree Library.

Bruce S. Gelber,
Deputy Chief, Environmental Enforcement Section, Environment and Natural Resources Division.

[FR Doc. 00-27002 Filed 10-19-00; 8:45 am]

BILLING CODE 4410-15-M